DEPARTMENT OF THE INTERIOR

Bureau of Indian Affairs

[K00103 12/13 A3A10; 134D0102DR-DS5A300000-DR.5A311.IA000113]

25 CFR Part 83

RIN 1076-AF18

Federal Acknowledgment of American Indian Tribes

AGENCY: Bureau of Indian Affairs, Interior.

ACTION: Proposed rule; extension of comment period.

SUMMARY: On May 22, 2014, the Department of the Interior announced the availability of a proposed rule to revise regulations governing the process and criteria by which the Secretary acknowledges an Indian tribe. We have since received several requests for extension of the comment period and additional public hearings. This notice extends the comment deadline by 60 days and announces the addition of two more public hearings and two more tribal consultation sessions on the proposed rule.

DATES: Comments on this rule must be received by September 30, 2014. See the SUPPLEMENTARY INFORMATION section of this notice for information on the public hearings and tribal consultations.

ADDRESSES: You may submit comments by any of the following methods:

• Federal rulemaking portal: http://www.regulations.gov. The rule is listed under the agency name “Bureau of Indian Affairs.” The rule has been assigned Docket ID: BIA-2013-0007.

• Email: consultation@bia.gov. Include the number 1076-AF18 in the subject line.

• Mail or hand delivery: Elizabeth Appel, Office of Regulatory Affairs & Collaborative Action, U.S. Department of the Interior, 1849 C Street NW., MS 3642, Washington, DC 20240. Include the number 1076-AF18 on the envelope.

Please note that we will not consider or include in the docket for this rulemaking comments received after the close of the comment period (see DATES) or comments sent to an address other than those listed above.

FOR FURTHER INFORMATION CONTACT: Ms. Elizabeth Appel, Director, Office of Regulatory Affairs & Collaborative Action, (202) 273-4680; elizabeth.appel@bia.gov.

SUPPLEMENTARY INFORMATION: On May 22, 2014, we announced the availability of a proposed rule to revise regulations governing the process and criteria by which the Secretary acknowledges an Indian tribe. The proposed rule was published in the Federal Register on May 29, 2014. See 79 FR 30766. Since announcement of the proposed rule, we have since received several requests for extension of the comment period and additional public hearings. This notice extends the comment deadline by 60 days and announces two additional public meetings and two additional tribal consultation sessions on this proposed rule.

The newly announced public meetings and tribal consultation sessions will be held by teleconference on the following schedule:

Meeting Type

Tribal Consultation

Monday, August 18, 2014

1:30 p.m. to 4:30 p.m. Eastern Time

The call-in number is (888) 323-4307 and the passcode is 4823348.

Tribal Consultation

Wednesday, August 20, 2014

1:30 p.m. to 4:30 p.m. Eastern Time

The call-in number is (888) 323-4307 and the passcode is 4823348.

Public Meeting

Wednesday, September 3, 2014

1:30 p.m. to 4:30 p.m. Eastern Time

The call-in number is (888) 323-4307 and the passcode is 4823348.

Public Meeting

Friday, September 5, 2014

1:30 p.m. to 4:30 p.m. Eastern Time

The call-in number is (888) 323-4307 and the passcode is 4823348.

These teleconferences are in addition to the previously announced six in-person public hearings and six tribal consultation sessions on the proposed rule.

The proposed rule, frequently asked questions, and other information are available online at: http://www.bia.gov/WhoWeAre/AS-IA/ORM/83revise/index.htm.

Dated: July 24, 2014.
Kevin K. Washburn
Assistant Secretary—Indian Affairs.

[FR Doc. 2014-17956 Filed 7-29-14; 8:45 am]

BILLING CODE 4310-W7-P